DEPARTMENT OF JUSTICE

[Docket No. OLP 153]

Notice of Establishment of the National Commission on Forensic Science and Solicitation of Applications for Commission Membership

AGENCY: Department of Justice.

ACTION: Notice of Establishment and Solicitation of Applications for Membership.

SUMMARY: Pursuant to the Federal Advisory Committee Act, as amended, the Attorney General will be establishing the National Commission on Forensic Science. This notice establishes criteria and procedures for the selection of members.

DATES: Applications must be received on or before March 25, 2013.

ADDRESSES: All applications should be submitted to: Armando Bonilla by email at Armando.Bonilla2@usdoj.gov or by mail at Department of Justice, 950 Pennsylvania Ave NW., Room 4313, Washington, DC 20530.

FOR FURTHER INFORMATION CONTACT: Armando Bonilla by email at Armando.Bonilla2@usdoj.gov or by mail at Department of Justice, 950 Pennsylvania Ave NW., Room 4313, Washington, DC 20530.

SUPPLEMENTARY INFORMATION:

Background and Authority: Pursuant to the Federal Advisory Committee Act, as amended (5 U.S.C. Appendix 2), the Attorney General will be establishing the National Commission on Forensic Science (“Commission”). The Attorney General has determined that the Commission is necessary and in the public interest.

The Commission will recommend strategies for enhancing quality assurance in forensic science units. The duties of the Commission will include: (a) Recommending priorities for standards development; (b) reviewing and recommending endorsement of guidance identified or developed by subject-matter experts; (c) developing proposed guidance concerning the intersection of forensic science and the courtroom; (d) developing policy recommendations, including a uniform code of professional responsibility and minimum requirements for training, accreditation and/or certification; and (e) identifying and assessing the current and future needs of the forensic sciences to strengthen their disciplines and meet growing demand.

Structure: The Commission will be co-chaired by the Department of Justice and the National Institute of Standards and Technology. Members will be appointed by the Attorney General in consultation with the Director of the National Institute of Standards and Technology and the co-chairs of the Commission. Members will be selected to achieve a diversity of experiences, including Federal, State, and Local forensic science service providers; research scientists and academicians; Federal, State, Local prosecutors, defense attorneys and judges; law enforcement; and other relevant stakeholders. DOJ encourages submissions from diverse applicants with respect to backgrounds, professions, ethnicities, gender, and geography. The Commission shall consist of approximately 30 members. Members will serve without compensation. The Commission will generally meet four times each year at approximately three-month intervals.

Applications: Any qualified person may apply to be considered for appointment to this advisory committee. Each application should include: (1) A resume or curriculum vitae; (2) a statement of interest describing the applicant's relevant experience; (3) a letter of recommendation; and (4) a statement of support from the applicant's employer. Potential candidates may be asked to provide detailed information as necessary regarding financial interests, employment, and professional affiliations to evaluate possible sources of conflicts of interest.

The application period will remain open through March 25, 2013. The applications must be sent in one complete package, by paper or email, to Armando Bonilla (contact information above). If an application is submitted electronically, please title the subject line of the email, “NCFS Membership 2013.” Other sources, in addition to the Federal Register notice, may be utilized in the solicitation of applications.

Dated: February 19, 2013.
Elana Tyrangiel,
Acting Assistant Attorney General, Office of Legal Policy.

[FR Doc. 2013-04140 Filed 2-21-13; 8:45 am]

BILLING CODE 4410-BB-P